COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before August 28, 2015.

ADDRESSES: Comments regarding the burden estimated or any other aspect of the information collection, including suggestions for reducing the burden, may be submitted directly to the Office of Information and Regulatory Affairs, Office of Management and Budget, Attention: Desk Officer for the Commodity Futures Trading Commission, 725 17th Street NW., Washington, DC 20503, within 30 days of the notice's publication, by email at OIRAsubmissions@omb.eop.gov. Please identify the comments by OMB Control No. 3038-0033. Please provide the Commission with a copy of all submitted comments at the address listed below. Please refer to OMB Reference No. 3038-0033, found on http://reginfo.gov. Comments may also be sent through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581, or by Hand Deliver/Courier at the same address, or to the Federal eRulemaking Portal: http://www.regulations.gov/.

A copy of the supporting statements for the collection of information discussed above may be obtained by visiting RegInfo.gov. All comments must be submitted in English, or if not, accompanied by an English translation. Comments will be posted as received to www.cftc.gov.

FOR FURTHER INFORMATION CONTACT: Robert Schwartz, Deputy General Counsel, Office of General Counsel, Commodity Futures Trading Commission, (202) 418-5958; email: rschwartz@cftc.gov, and refer to OMB Control No. 3038-0033.

SUPPLEMENTARY INFORMATION: This is a request for an extension of a previously approved collection—Extension.

Title: Notification of Pending Legal Proceedings Pursuant to 17 CFR 1.60, OMB Control Number 3038-0033.

Abstract: Rule 1.60 of the Commission's Part 1 regulations requires every designated contract market (“DCM”) and futures commission merchant (“FCM”) to submit to the Commodity Futures Trading Commission (“Commission”) certain specified information concerning pending legal proceedings to which the DCM or FCM is a party or to which its property is subject.¹ The Commission initially estimated that 105 entities would be affected by this rule. That number was based on the current numbers of active registered DCMs (15) and FCMs (75).² These numbers remain current, and the Commission received no comments on the 60-day notice.

¹ 17 CFR 1.60 (2015).

² 80 FR 27293, 27294 (2015).

Burden Statement: The respondent burden for this collection is estimated to average 0.20 hours per response, once annually. This estimate includes providing the Commission with notice and copies of specified legal documents.

Respondents/Affected Entities: DCMs and FCMs.

Estimated Number of Respondents: 105.

Estimated Total Annual Burden on Respondents: 21 hours.³

³ The 60-day Federal Register notice (80 FR 27293, May 13, 2015), contained a math error in the calculation of the total burden. The total burden should be 21 hours, not .20 hours.

Frequency of Collection: Once annually.

Authority: 44 U.S.C. 3501 et seq.

Dated: July 24, 2015.
Robert N. Sidman,
Deputy Secretary of the Commission.

[FR Doc. 2015-18585 Filed 7-28-15; 8:45 am]

BILLING CODE 6351-01-P